DEPARTMENT OF ENERGY

Federal Energy Regulatory Commission

[Project No. 13212-000]

Kenai Hydro, LLC; Notice of Preliminary Permit Application Accepted for Filing and Soliciting Comment, Motions To Intervene, and Competing Applications

July 21, 2008.

On April 28, 2008, Kenai Hydro, LLC filed an application, pursuant to section 4(f) of the Federal Power Act (FPA), proposing to study the feasibility of the Grant Lake Project to be located on Grant Lake and Creek in Kenai Peninsula Borough, Alaska. The project would occupy federal lands managed by the U.S. Forest Service.

The proposed project would most likely consist of: (1) An earth fill, concrete faced gravity dam 10 feet high and 200 feet wide; (2) a reservoir with an approximate surface elevation of 800 feet MSL, an approximate surface area of 1,888 acres, and a storage capacity of 37,760 acre feet; (3) a 5 foot diameter, 1 mile long penstock constructed of high density polyethylene or steel; (4) a powerhouse containing one turbine-generator unit with a total installed capacity of about 5 MW; (5) a 1-2 mile long, 115kV transmission line and; (6) appurtenant facilities. The annual production would be 17.5 GWh which would be sold to a local utility.

Applicant Contact: Steve Gilbert, 6921 Howard Avenue, Anchorage, AK 99504, (907) 333-0810.

FERC Contact: Steven Sachs, (202) 502-8666.

Deadline for filing comments, motions to intervene, competing applications (without notices of intent), or notices of intent to file competing applications: 60 days from the issuance of this notice.

Comments, motions to intervene, notices of intent, and competing applications may be filed electronically via the Internet. See 18 CFR 385.2001(a)(1)(iii) and the instructions on the Commission's Web site under the “e-Filing” link. If unable to be filed electronically, documents may be paper-filed. To paper-file, an original and eight copies should be mailed to: Kimberly D. Bose, Secretary, Federal Energy Regulatory Commission, 888 First Street, NE., Washington, DC 20426.

For more information on how to submit these types of filings please go to the Commission's Web site located at http://www.ferc.gov/filing-comments.asp. More information about this project can be viewed or printed on the “eLibrary” link of the Commission's Web site at http://www.ferc.gov/docs-filing/elibrary.asp. Enter the docket number (P-13212) in the docket number field to access the document. For assistance, call toll-free 1-866-208-3372.

Kimberly D. Bose,
Secretary.

[FR Doc. E8-17154 Filed 7-25-08; 8:45 am]

BILLING CODE 6717-01-P